DEPARTMENT OF LABOR

Employment and Training Administration

[TA-W-61,696]

Medtronic, Inc. Cardiovascular Division, Santa Rosa, CA; Notice of Affirmative Determination Regarding Application for Reconsideration

On August 7, 2007, the U.S. Department of Labor (Department) received a request for administrative reconsideration of the Department's Notice of Negative Determination Regarding Eligibility to Apply for Worker Adjustment Assistance, applicable to workers and former workers of the subject firm. The negative determination was issued on July 19, 2007. The Department's Notice of determination was published in the Federal Register on August 2, 2007 (72 FR 42436). Workers produce cardiovascular stents.

The determination was based on the Department's findings that, during the relevant period, the subject firm did not import cardiovascular stents or shift production of cardiovascular stents overseas. The Department did not conduct a survey to determine whether the subject firm's major declining customers had increased their imports of stents because all of the stents produced at the subject firm were sold to a foreign firm.

In the request for reconsideration, workers alleged that the subject firm shifted “medical device production” overseas.

The Department has carefully reviewed the workers' request for reconsideration and has determined that the Department will conduct further investigation.

Conclusion

After careful review of the application, I conclude that the claim is of sufficient weight to justify reconsideration of the U.S. Department of Labor's prior decision. The application is, therefore, granted.

Signed at Washington, DC, this 16th day of August 2007.
Elliott S. Kushner,
Certifying Officer, Division of Trade Adjustment Assistance.

[FR Doc. E7-16887 Filed 8-24-07; 8:45 am]

BILLING CODE 4510-FN-P